ENVIRONMENTAL PROTECTION AGENCY

[CERCLA-04-2014-3750; FRL 9903-42-Region 4]

Macalloy Superfund Site, North Charleston, Charleston County, South Carolina; Notice of Settlement

AGENCY: Environmental Protection Agency.

ACTION: Notice of Settlement.

SUMMARY: Under 122(h) of the Comprehensive Environmental Response, Compensation and Liability Act (CERCLA), the United States Environmental Protection Agency has entered into a settlement with the Metallurg, Inc., Mitsui & Co. (U.S.A.), Inc., and Glencore LTD., addressing past costs and a portion of future costs concerning the Macalloy Superfund Site located in North Charleston, Charleston County, South Carolina. The settlement addresses costs from a Remedial Action taken by EPA at the Site.

DATES: The Agency will consider public comments on the settlement until December 26, 2013. The Agency will consider all comments received and may modify or withdraw its consent to the settlement if comments received disclose facts or considerations which indicate that the settlement is inappropriate, improper, or inadequate.

ADDRESSES: Copies of the settlement are available from the Agency by contacting Ms. Paula V. Painter, Environmental Protection Specialist using the contact information provided in this notice. Comments may also be submitted by referencing the Site's name through one of the following methods:

• Internet: www.epa.gov/region4/superfund/programs/enforcement/enforcement.html.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: October 29, 2013.
Anita L. Davis,
Chief, Superfund Enforcement & Information Management Branch, Superfund Division.

[FR Doc. 2013-28368 Filed 11-25-13; 8:45 am]

BILLING CODE 6560-50-P